DEPARTMENT OF ENERGY

Federal Energy Regulatory Commission

Combined Notice of Filings #1

November 3, 2010.

Take notice that the Commission received the following electric rate filings:

Docket Numbers: ER04-691-096.

Applicants: Midwest Independent Transmission System Operator, Inc.

Description: Compliance Filing of Midwest Independent Transmission System Operator, Inc.

Filed Date: 10/29/2010.

Accession Number: 20101029-5260.

Comment Date: 5 p.m. Eastern Time on Friday, November 19, 2010.

Docket Numbers: ER10-2238-001.

Applicants: Indigo Generation LLC.

Description: Indigo Generation LLC submits tariff filing per 35: Amendment to Baseline Tariff Filing to be effective 8/16/2010.

Filed Date: 11/03/2010.

Accession Number: 20101103-5023.

Comment Date: 5 p.m. Eastern Time on Wednesday, November 24, 2010.

Docket Numbers: ER10-2239-001.

Applicants: Larkspur Energy LLC.

Description: Larkspur Energy LLC submits tariff filing per 35: Amendment to Baseline Tariff Filing to be effective 8/16/2010.

Filed Date: 11/03/2010.

Accession Number: 20101103-5025.

Comment Date: 5 p.m. Eastern Time on Wednesday, November 24, 2010.

Docket Numbers: ER10-2776-001.

Applicants: Wells Fargo Commodities, LLC.

Description: Wells Fargo Commodities, LLC submits tariff filing per: Wells Fargo Commodities, LLC Market-Based Rate Tariff to be effective 9/17/2010.

Filed Date: 11/03/2010.

Accession Number: 20101103-5045.

Comment Date: 5 p.m. Eastern Time on Wednesday, November 24, 2010.

Docket Numbers: ER10-3247-001.

Applicants: Electric Energy, Inc.

Description: Electric Energy, Inc. submits tariff filing per 35: Compliance Transmittal Letter MBR Withdrawal to be effective 11/3/2010.

Filed Date: 11/03/2010.

Accession Number: 20101103-5016.

Comment Date: 5 p.m. Eastern Time on Wednesday, November 24, 2010.

Docket Numbers: ER10-3305-001.

Applicants: Electric Energy, Inc.

Description: Electric Energy, Inc. submits tariff filing per 35: Baseline OATT Correction to be effective 11/3/2010.

Filed Date: 11/03/2010.

Accession Number: 20101103-5014.

Comment Date: 5 p.m. Eastern Time on Wednesday, November 24, 2010.

Docket Numbers: ER10-3305-002.

Applicants: Electric Energy, Inc.

Description: Electric Energy, Inc. submits tariff filing per 35: OATT Tariff Revision for Removal of Price Caps to be effective 11/4/2010.

Filed Date: 11/03/2010.

Accession Number: 20101103-5017.

Comment Date: 5 p.m. Eastern Time on Wednesday, November 24, 2010.

Docket Numbers: ER11-1828-001.

Applicants: Maine Public Service Company.

Description: Maine Public Service Company submits tariff filing per 35.17(b): Amendment to Interconnection Agreement Filing to be effective 9/29/2010.

Filed Date: 11/03/2010.

Accession Number: 20101103-5069.

Comment Date: 5 p.m. Eastern Time on Wednesday, November 24, 2010.

Docket Numbers: ER11-1996-000.

Applicants: Westar Energy, Inc.

Description: Westar Energy, Inc. submits tariff filing per: City of Eudora, KS Schedule WSM-01/2011, Supplemental to be effective N/A.

Filed Date: 11/03/2010.

Accession Number: 20101103-5027.

Comment Date: 5 p.m. Eastern Time on Wednesday, November 24, 2010.

Docket Numbers: ER11-2005-000.

Applicants: Wind Capital Holdings, LLC.

Description: Wind Capital Holdings, LLC submits tariff filing per 35.12: Market-Based Rate Tariff Baseline Filing to be effective 11/1/2010.

Filed Date: 11/02/2010.

Accession Number: 20101102-5099.

Comment Date: 5 p.m. Eastern Time on Tuesday, November 23, 2010.

Docket Numbers: ER11-2006-000.

Applicants: Puget Sound Energy, Inc.

Description: Puget Sound Energy, Inc. submits tariff filing per 35.12: PSE Original Service Agreement No. 506 to be effective 11/2/2010.

Filed Date: 11/02/2010.

Accession Number: 20101102-5100.

Comment Date: 5 p.m. Eastern Time on Tuesday, November 23, 2010.

Docket Numbers: ER11-2007-000.

Applicants: Tuana Springs Energy, LLC.

Description: Tuana Springs Energy, LLC submits tariff filing per 35.12: Market-Based Rate Tariff Baseline Filing to be effective 11/1/2010.

Filed Date: 11/02/2010.

Accession Number: 20101102-5103.

Comment Date: 5 p.m. Eastern Time on Tuesday, November 23, 2010.

Docket Numbers: ER11-2008-000.

Applicants: Puget Sound Energy, Inc.

Description: Puget Sound Energy, Inc. submits tariff filing per 35.12: PSE Original Service Agreement #507 11022010 to be effective 11/2/2010.

Filed Date: 11/02/2010.

Accession Number: 20101102-5104.

Comment Date: 5 p.m. Eastern Time on Tuesday, November 23, 2010.

Docket Numbers: ER11-2009-000.

Applicants: Michigan Wind 1, LLC.

Description: Michigan Wind 1, LLC submits tariff filing per 35.12: Market-Based Rate Tariff Baseline Filing to be effective 11/1/2010.

Filed Date: 11/02/2010.

Accession Number: 20101102-5108.

Comment Date: 5 p.m. Eastern Time on Tuesday, November 23, 2010.

Docket Numbers: ER11-2010-000.

Applicants: J.D. Wind 4, LLC.

Description: J.D. Wind 4, LLC submits tariff filing per 35.12: Market-Based Rate Baseline Filing to be effective 11/1/2010.

Filed Date: 11/02/2010

Accession Number: 20101102-5110.

Comment Date: 5 p.m. Eastern Time on Tuesday, November 23, 2010.

Docket Numbers: ER11-2011-000.

Applicants: Harvest Windfarm, LLC.

Description: Harvest Windfarm, LLC submits tariff filing per 35.12: Market-Based Rate Tariff Baseline Filing to be effective 11/1/2010.

Filed Date: 11/02/2010.

Accession Number: 20101102-5115.

Comment Date: 5 p.m. Eastern Time on Tuesday, November 23, 2010.

Docket Numbers: ER11-2012-000.

Applicants: Puget Sound Energy, Inc.

Description: Puget Sound Energy, Inc. submits tariff filing per 35.12: PSE Original Service Agreement No. 508 v2 to be effective 11/2/2010.

Filed Date: 11/02/2010.

Accession Number: 20101102-5116.

Comment Date: 5 p.m. Eastern Time on Tuesday, November 23, 2010.

Docket Numbers: ER11-2013-000.

Applicants: CR Clearing, LLC.

Description: CR Clearing, LLC submits tariff filing per 35.12: Market-Based Rate Tariff Baseline Filing to be effective 11/1/2010.

Filed Date: 11/02/2010.

Accession Number: 20101102-5121.

Comment Date: 5 p.m. Eastern Time on Tuesday, November 23, 2010.

Docket Numbers: ER11-2014-000.

Applicants: Cow Branch Wind Power, LLC.

Description: Cow Branch Wind Power, LLC submits tariff filing per 35.12: Market-Based Rate Tariff Baseline Filing to be effective 11/1/2010.

Filed Date: 11/02/2010.

Accession Number: 20101102-5122.

Comment Date: 5 p.m. Eastern Time on Tuesday, November 23, 2010.

Docket Numbers: ER11-2015-000.

Applicants: Lighthouse Energy Trading Company, Inc.

Description: Lighthouse Energy Trading Co., Inc submits a notice of cancellation.

Filed Date: 11/02/2010.

Accession Number: 20101102-0202.

Comment Date: 5 p.m. Eastern Time on Tuesday, November 23, 2010.

Docket Numbers: ER11-2016-000.

Applicants: Cassia Gulch Wind Park, LLC.

Description: Cassia Gulch Wind Park, LLC submits tariff filing per 35.12: Market-Based Rate Tariff Baseline Filing to be effective 11/1/2010.

Filed Date: 11/02/2010.

Accession Number: 20101102-5123.

Comment Date: 5 p.m. Eastern Time on Tuesday, November 23, 2010.

Docket Numbers: ER11-2017-000.

Applicants: California Independent System Operator Corporation.

Description: California Independent System Operator Corporation submits tariff filing per 35.13(a)(2)(iii): 2010-11-02 GMC Amendment to be effective 1/1/2011.

Filed Date: 11/02/2010.

Accession Number: 20101102-5149.

Comment Date: 5 p.m. Eastern Time on Tuesday, November 23, 2010.

Docket Numbers: ER11-2018-000.

Applicants: Alabama Power Company.

Description: Alabama Power Company submits tariff filing per 35.15: Cancellation of Rate Schedule REA-1 to be effective 1/1/2011.

Filed Date: 11/02/2010.

Accession Number: 20101102-5164.

Comment Date: 5 p.m. Eastern Time on Tuesday, November 23, 2010.

Docket Numbers: ER11-2019-000.

Applicants: Ameren Illinois Company.

Description: Ameren Illinois Company submits tariff filing per 35.12: Legacy Agreements to be effective 12/31/9998.

Filed Date: 11/02/2010.

Accession Number: 20101102-5171.

Comment Date: 5 p.m. Eastern Time on Tuesday, November 23, 2010.

Docket Numbers: ER11-2020-000.

Applicants: Domtar Paper Company, LLC.

Description: Domtar Paper Company, LLC submits tariff filing per 35.12: Domtar Paper Company, LLC Market-Based Rate Application to be effective 1/1/2011.

Filed Date: 11/02/2010.

Accession Number: 20101102-5172.

Comment Date: 5 p.m. Eastern Time on Tuesday, November 23, 2010.

Docket Numbers: ER11-2021-000.

Applicants: Domtar A.W. LLC.

Description: Domtar A.W. LLC submits tariff filing per 35.12: Domtar A.W. LLC Market-Based Rate Application to be effective 1/1/2011.

Filed Date: 11/02/2010.

Accession Number: 20101102-5175.

Comment Date: 5 p.m. Eastern Time on Tuesday, November 23, 2010.

Docket Numbers: ER11-2022-000.

Applicants: Louisville Gas and Electric Company.

Description: Louisville Gas and Electric Company submits tariff filing per 35: ER10295 ER10298 EL1038 Settlement Implementation to be effective 8/1/2010.

Filed Date: 11/03/2010.

Accession Number: 20101103-5013.

Comment Date: 5 p.m. Eastern Time on Wednesday, November 24, 2010.

Docket Numbers: ER11-2023-000.

Applicants: ISO New England Inc.

Description: ISO New England Inc. submits tariff filing per 35: Compliance Filing to Incorporate ER09-1051-000 Approved Revisions into eTariff to be effective 8/30/2010.

Filed Date: 11/03/2010.

Accession Number: 20101103-5044.

Comment Date: 5 p.m. Eastern Time on Wednesday, November 24, 2010.

Docket Numbers: ER11-2024-000.

Applicants: Kentucky Utilities Company.

Description: Kentucky Utilities Company submits tariff filing per 35: 11_03_10 KU EEI IA Concurrence Correction to be effective N/A.

Filed Date: 11/03/2010.

Accession Number: 20101103-5047.

Comment Date: 5 p.m. Eastern Time on Wednesday, November 24, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-28438 Filed 11-10-10; 8:45 am]

BILLING CODE 6717-01-P